ENVIRONMENTAL PROTECTION AGENCY

40 CFR Parts 51, 79, 80, 85, 122, 300, 372, 501, 704, 745, 763, 790, 1036, and 1037

[EPA-HQ-OECA-2024-0208; FRL 11265-02-OECA]

RIN 2020-AA55

Inflation Adjustment References for Civil Monetary Penalty Amounts in Title 40 of the Code of Federal Regulations

AGENCY: Environmental Protection Agency (EPA).

ACTION: Direct final rule.

SUMMARY: The U.S. Environmental Protection Agency (EPA) is taking direct final action to address outdated maximum and minimum statutory civil monetary penalty amounts by adding language that refers readers to the up-to-date maximum and minimum statutory civil monetary penalty amounts. The Federal Civil Penalties Inflation Adjustment Act of 1990, as amended through the Federal Civil Penalties Inflation Adjustment Act Improvements Act of 2015 requires the EPA to annually issue rules that adjust the statutory maximum and minimum civil penalty amounts under the various environmental laws implemented by the EPA to account for inflation. The EPA makes inflation adjustments for each of the outdated penalty amounts in a separate rule. This rule adds language notifying the reader that the penalty amount listed may not be accurate and refers the reader to the EPA's regulation to find the correct amounts.

DATES: This rule is effective on November 8, 2024, without further notice, unless the EPA receives adverse comment by December 9, 2024. If the EPA receives adverse comment, we will publish a timely withdrawal in the Federal Register informing the public that the rule will not take effect.

ADDRESSES: The EPA has established a docket for this action under Docket ID No. EPA-HQ-OECA-2024-0208. All documents in the docket are listed on the http://www.regulations.gov website. Although listed in the index, some information is not publicly available, e.g., CBI or other information whose disclosure is restricted by statute. Certain other material, such as copyrighted material, is not placed on the internet and will be publicly available only in hard copy form. Publicly available docket materials are available electronically through http://www.regulations.gov.

FOR FURTHER INFORMATION CONTACT: Ryan Didion, Office of Civil Enforcement, Office of Enforcement and Compliance Assurance, Mail Code 2241A, U.S. Environmental Protection Agency, 1200 Pennsylvania Avenue NW, Washington, DC 20460; telephone number: (202) 564-0332; email: didion.ryan@epa.gov.

SUPPLEMENTARY INFORMATION:

I. Why is the EPA using a direct final rule?

The EPA is publishing this rule without a prior proposed rulemaking because we view this as a noncontroversial action and anticipate no adverse comment because this matter is clerical in nature as these are minor technical amendments where there is no substantive issue and the EPA finds it has good cause to forgo notice and comment because notice and comment would be unnecessary and contrary to the public interest in understanding where the most current penalty limits may be found. If the EPA receives adverse comment, we will publish a timely withdrawal in the Federal Register informing the public that the rule will not take effect. Any parties interested in commenting must do so at this time. For further information about commenting on this rule, see the ADDRESSES section of this document.

II. Background

The Federal Civil Penalties Inflation Adjustment Act Improvements Act of 2015 (2015 Act) requires each Federal agency to adjust the level of statutory civil monetary penalties under the laws implemented by that agency with annual adjustments to account for inflation. The purpose of the 2015 Act is to maintain the deterrent effect of civil monetary penalties by translating originally enacted statutory civil penalty amounts to today's dollars. The EPA promulgates annual rules as required by the 2015 Act to adjust the statutory maximum and minimum civil penalty amounts in 40 CFR 19.4.

Currently, there are statutory civil penalty amounts in 40 CFR parts 51, 79, 80, 85, 122, 300, 372, 501, 704, 745, 763, 790, 1036, and 1037, that were previously correct when promulgated but are no longer accurate because they have not been adjusted for inflation. This rule adds language in 16 instances throughout CFR Title 40 stating the current inflation adjusted figures can be found in 40 CFR 19.4. With these revisions, the corrected regulatory provisions will now be adjusted annually per the 2015 Act.

III. Statutory and Executive Order Reviews

Additional information about these statutes and Executive orders can be found at https://www.epa.gov/laws-regulations/laws-and-executive-orders.

A. Executive Order 12866: Regulatory Planning and Review and Executive Order 14094: Modernizing Regulatory Review

This action is not a significant regulatory action as defined in Executive Order 12866, as amended by Executive Order 14094, and was therefore not subject to a requirement for Executive Order 12866 review.

B. Paperwork Reduction Act (PRA)

This action does not impose an information collection burden under the PRA. This action contains no information collection activities and, therefore, no information collection request will be submitted to the Office of Management and Budget for review under the Paperwork Reduction Act, 44 U.S.C. 3501 et seq. This rule adds a sentence to statutory civil penalty amounts in 40 CFR parts 51, 79, 80, 85, 122, 300, 372, 501, 704, 745, 763, 790, 1036, and 1037, stating the current statutory penalty amount can be found in 40 CFR 19.4.

C. Regulatory Flexibility Act (RFA)

This action is not subject to the RFA. The RFA applies only to rules subject to notice and comment rulemaking requirements under the Administrative Procedures Act (APA), 5 U.S.C. 553, or any other statute. This rule is not subject to notice and comment requirements because this rule fits with the APA's “good cause” exemption under 5 U.S.C. 553(b).

D. Unfunded Mandates Reform Act (UMRA)

This action does not contain an unfunded mandate as described in UMRA, 2 U.S.C. 1531-1538, and does not significantly or uniquely affect small governments. The action imposes no enforceable duty on any state, local, or tribal governments or the private sector.

E. Executive Order 13132: Federalism

This action does not have federalism implications. It will not have substantial direct effects on the States, on the relationship between the National Government and the States, or on the distribution of power and responsibilities among the various levels of government.

F. Executive Order 13175: Consultation and Coordination With Indian Tribal Governments

This action does not have tribal implications as specified in Executive Order 13175. This action simply inserts language to inform the public of the current statutory civil monetary penalty amounts. Accordingly, this rule will not have a substantial direct effect on tribal governments, on the relationship between the Federal Government and Indian tribes, or on the distribution of power and responsibilities between the Federal Government and Indian tribes. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk. Since this action does not concern human health, the EPA's Policy on Children's Health also does not apply.

H. Executive Order 13211: Actions Concerning Regulations That Significantly Affect Energy Supply, Distribution, or Use

This action is not subject to Executive Order 13211, because it is not a significant regulatory action under Executive Order 12866.

I. National Technology Transfer and Advancement Act (NTTAA)

This rule does not involve technical standards.

J. Executive Order 12898: Federal Actions To Address Environmental Justice in Minority Populations and Low-Income Populations and Executive Order 14096: Revitalizing Our Nation's Commitment to Environmental Justice for All

The EPA believes that this type of action does not concern human health or environmental conditions and therefore cannot be evaluated with respect to potentially disproportionate and adverse effects on communities with environmental justice concerns. These corrections have no substantive impact; they simply notify readers that accurate inflation adjusted statutory penalty amounts can be found in 40 CFR 19.4.

K. Congressional Review Act (CRA)

This action is subject to the CRA, and the EPA will submit a rule report to each House of the Congress and to the Comptroller General of the United States. This action is not a “major rule” as defined by 5 U.S.C. 804(2).

List of Subjects

40 CFR Part 51

Environmental protection, Administrative practice and procedure, Air pollution control, Carbon oxides, Fees, Intergovernmental relations, Lead, Nitrogen oxides, Ozone, Reporting and recordkeeping requirements, Sulfur oxides, Transportation, Volatile organic compounds.

40 CFR Part 79

Environmental protection, Fuel additives, Gasoline, Motor vehicle pollution, Penalties, Reporting and recordkeeping requirements.

40 CFR Part 80

Environmental protection, Administrative practice and procedure, Air pollution control, Biobased products, Diesel fuel, Fuel additives, Gasoline, Imports, Oil imports, Penalties, Petroleum.

40 CFR Part 85

Environmental protection, Confidential business information, Greenhouse gases, Imports, Labeling, Motor vehicle pollution, Reporting and recordkeeping requirements, Research, Warranties.

40 CFR Part 122

Environmental protection, Water pollution control.

40 CFR Part 300

Environmental protection, Air pollution control, Chemicals, Hazardous substances, Hazardous waste, Intergovernmental relations, Natural resources, Oil pollution, Penalties, Reporting and recordkeeping requirements, Superfund, Water pollution control, Water supply.

40 CFR Part 372

Environmental protection, Reporting and recordkeeping requirements, Toxic substances.

40 CFR Part 501

Environmental protection, Administrative practice and procedure, Indians-lands, Intergovernmental relations, Penalties, Reporting and recordkeeping requirements, Sewage disposal.

40 CFR Part 704

Environmental protection, Chemicals, Confidential business information, Hazardous substances, Reporting and recordkeeping requirements.

40 CFR Part 745

Environmental protection, Child welfare, Hazardous substances, Housing, Lead, Lead poisoning, Reporting and recordkeeping requirements.

40 CFR Part 763

Environmental protection, Administrative practice and procedure, Asbestos, Confidential business information, Hazardous substances, Imports, Intergovernmental relations, Labeling, Occupational safety and health, Reporting and recordkeeping requirements, Schools.

40 CFR Part 790

Environmental protection, Administrative practice and procedure, Chemicals, Confidential business information, Hazardous substances, Reporting and recordkeeping requirements.

40 CFR Part 1036

Environmental protection, Administrative practice and procedure, Air pollution control, Confidential business information, Greenhouse gases, Labeling, Motor vehicle pollution, Reporting and recordkeeping requirements, Warranties.

40 CFR Part 1037

Environmental protection, Administrative practice and procedure, Air pollution control, Confidential business information, Labeling, Motor vehicle pollution, Reporting and recordkeeping requirements, Warranties.

David M. Uhlmann,
Assistant Administrator, Office of Enforcement and Compliance Assurance.

For the reasons set out in the preamble, the EPA amends title 40, chapter I, parts 51, 79, 80, 85, 122, 300, 372, 501, 704, 745, 763, 790, 1036, and 1037 of the Code of Federal Regulations as follows:

PART 51—REQUIREMENTS FOR PREPARATION, ADOPTION, AND SUBMITTAL OF IMPLEMENTATION PLANS

1. The authority citation for part 51 continues to read as follows:

Authority: 23 U.S.C. 101; 42 U.S.C. 7401-7671q.

2. Amend § 51.493 by adding two sentences to the end of paragraph (i)(2) to read as follows:

§ 51.493 State program requirements.

* * * * *

(i) * * *

(2) * * * The civil monetary penalty amount listed in this section may not reflect recent inflation adjustments EPA is required to make. The current maximum and minimum statutory civil penalty amounts are located in § 19.4.

PART 79—REGISTRATION OF FUELS AND FUEL ADDITIVES

3. The authority citation for part 79 continues to read as follows:

Authority: 42 U.S.C. 7414, 7524, 7545 and 7601.

4. Amend § 79.8 by adding two sentences to the end of the text to read as follows:

§ 79.8 Penalties.

* * * The civil monetary penalty amount listed in this section may not reflect recent inflation adjustments EPA is required to make. The current maximum and minimum statutory civil penalty amounts are located in § 19.4.

5. Amend § 79.51 by adding paragraph(f)(7) to read as follows:

§ 79.51 General requirements and provisions.

* * * * *

(f) * * *

(7) The civil monetary penalty amounts listed in this section may not reflect recent inflation adjustments EPA is required to make. The current maximum and minimum statutory civil penalty amounts are located in § 19.4.

* * * * *

PART 80—REGULATION OF FUELS AND FUEL ADDITIVES

6. The authority citation for part 80 continues to read as follows:

Authority: 42 U.S.C. 7414, 7521, 7542, 7545, and 7601(a).

7. Amend § 80.5 by adding two sentences to the end of the text to read as follows:

§ 80.5 Penalties.

* * * The civil monetary penalty amount listed in this section may not reflect recent inflation adjustments EPA is required to make. The current maximum and minimum statutory civil penalty amounts are located in § 19.4.

PART 85—CONTROL OF AIR POLLUTION FROM MOBILE SOURCES

8. The authority citation for part 85 continues to read as follows:

Authority: 42 U.S.C. 7401-7671q.

9. Amend § 85.1513 by adding two sentences to the end of paragraph (d) to read as follows:

§ 85.1513 Prohibited acts; penalties.

* * * * *

(d) * * * The civil monetary penalty amount listed in this section may not reflect recent inflation adjustments EPA is required to make. The current maximum and minimum statutory civil penalty amounts are located in § 19.4.

* * * * *

PART 122—EPA ADMINISTERED PERMIT PROGRAMS: THE NATIONAL POLLUTANT DISCHARGE ELIMINATION SYSTEM

10. The authority citation for part 122 continues to read as follows:

Authority: 33 U.S.C. 1251 et seq.

11. Amend § 122.41 by adding paragraph (a)(4) to read as follows:

§ 122.41 Conditions applicable to all permits (applicable to State programs, see § 123.25).

* * * * *

(4) The civil monetary penalty amounts listed in this section may not reflect recent inflation adjustments EPA is required to make. The current maximum and minimum statutory civil penalty amounts are located in § 19.4.

* * * * *

PART 300—NATIONAL OIL AND HAZARDOUS SUBSTANCES POLLUTION CONTINGENCY PLAN

12. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

13. Amend § 300.400 by adding two sentences to the end of paragraph (d)(4)(iv)(D) to read as follows:

§ 300.400 General.

* * * * *

(d) * * *

(4) * * *

(iv) * * *

(D) * * * The civil monetary penalty amount listed in this section may not reflect recent inflation adjustments EPA is required to make. The current maximum and minimum statutory civil penalty amounts are located in § 19.4.

* * * * *

PART 372—TOXIC CHEMICAL RELEASE REPORTING: COMMUNITY RIGHT-TO-KNOW

14. The authority citation for part 372 continues to read as follows:

Authority: 42 U.S.C. 11023 and 11048.

15. Amend § 372.18 by adding two sentences to the end of the text to read as follows:

§ 372.18 Compliance and enforcement.

* * * The civil monetary penalty amount listed in this section may not reflect recent inflation adjustments EPA is required to make. The current maximum and minimum statutory civil penalty amounts are located in § 19.4.

PART 501—STATE SLUDGE MANAGEMENT PROGRAM REGULATIONS

16. The authority citation for part 501 continues to read as follows:

Authority: 33 U.S.C. 1251 et seq.

17. Amend § 501.15 by adding two sentences to the end of paragraph (b)(3) to read as follows:

§ 501.15 Requirements for permitting.

* * * * *

(b) * * *

(3) * * * The civil monetary penalty amounts listed in this section may not reflect recent inflation adjustments EPA is required to make. The current maximum and minimum statutory civil penalty amounts are located in § 19.4.

* * * * *

18. Amend § 501.17 by adding two sentences to the end of paragraph (a)(3)(i) to read as follows:

§ 501.17 Requirements for enforcement authority.

(a) * * *

(3) * * *

(i) * * * The civil monetary penalty amount listed in this section may not reflect recent inflation adjustments EPA is required to make. The current maximum and minimum statutory civil penalty amounts are located in § 19.4.

PART 704—REPORTING AND RECORDKEEPING REQUIREMENTS

19. The authority citation for part 704 continues to read as follows:

Authority: 15 U.S.C. 2607(a).

20. Amend § 704.13 by adding two sentences to the end of the text to read as follows:

§ 704.13 Compliance and enforcement.

* * * The civil monetary penalty amount listed in this section may not reflect recent inflation adjustments EPA is required to make. The current maximum and minimum statutory civil penalty amounts are located in § 19.4.

PART 745—LEAD-BASED PAINT POISONING PREVENTION IN CERTAIN RESIDENTIAL STRUCTURES

21. The authority citation for part 745 continues to read as follows:

Authority: 15 U.S.C. 2605, 2607, 2681-2692 and 42 U.S.C. 4852d.

22. Amend § 745.118 by adding two sentences to the end of paragraph (f) to read as follows:

§ 745.118 Enforcement.

* * * * *

(f) * * * The civil monetary penalty amounts listed in this section may not reflect recent inflation adjustments EPA is required to make. The current maximum and minimum statutory civil penalty amounts are located in § 19.4.

PART 763—ASBESTOS

23. The authority citation for part 763 continues to read as follows:

Authority: 15 U.S.C. 2605, 2607(c), 2643, and 2646.

24. Amend § 763.97 by adding paragraph (g) to read as follows:

§ 763.97 Compliance and enforcement.

* * * * *

(g) Annual adjustments to civil penalties. The civil monetary penalty amounts listed in this section may not reflect recent inflation adjustments EPA is required to make. The current maximum and minimum statutory civil penalty amounts are located in § 19.4.

PART 790—PROCEDURES GOVERNING TESTING CONSENT AGREEMENTS AND TEST RULES

25. The authority citation for part 790 continues to read as follows:

Authority: 15 U.S.C. 2603.

26. Amend § 790.65 by adding two sentences to the end of paragraph (c) to read as follows:

§ 790.65 Failure to comply with a consent agreement.

* * * * *

(c) * * * The civil monetary penalty amount listed in this section may not reflect recent inflation adjustments EPA is required to make. The current maximum and minimum statutory civil penalty amounts are located in § 19.4.

* * * * *

PART 1036—CONTROL OF EMISSIONS FROM NEW AND IN-USE HEAVY-DUTY HIGHWAY ENGINES

27. The authority citation for part 1036 continues to read as follows:

Authority: 42 U.S.C. 7401—7671q.

28. Amend § 1036.601 by adding two sentences to the end of paragraph (a)(3) to read as follows:

§ 1036.601 Overview of compliance provisions.

(a) * * *

(3) * * * The civil monetary penalty amount listed in this section may not reflect recent inflation adjustments EPA is required to make. The current maximum and minimum statutory civil penalty amounts are located in § 19.4.

* * * * *

PART 1037—CONTROL OF EMISSIONS FROM NEW HEAVY-DUTY MOTOR VEHICLES

29. The authority citation for part 1037 continues to read as follows:

Authority: 42 U.S.C. 7401-7671q.

30. Amend § 1037.601 by adding two sentences to the end of paragraph (a)(5) to read as follows:

§ 1037.601 General compliance provisions.

(a) * * *

(5) * * * The civil monetary penalty amount listed in this section may not reflect recent inflation adjustments EPA is required to make. The current maximum and minimum statutory civil penalty amounts are located in § 19.4.

* * * * *

[FR Doc. 2024-25669 Filed 11-7-24; 8:45 am]

BILLING CODE 6560-50-P